NATIONAL SCIENCE FOUNDATION

Advisory Committee for Geosciences; Notice of Meeting

In accordance with the Federal Advisory Committee Act (Public Law 92-463, as amended), the National Science Foundation (NSF) announces the following meeting:

Name and Committee Code: Advisory Committee for Geosciences (1755).

Date and Time: May 7, 2020; 1:00 p.m.-2:00 p.m. EDT.

Place: National Science Foundation, 2415 Eisenhower Avenue, Alexandria, VA 22314 (Virtual).

Meeting Access: Connection information will be made available on the AC GEO website at least two weeks prior to the meeting at: (https://www.nsf.gov/geo/advisory.jsp).

Type of Meeting: Open.

Contact Person: Melissa Lane, National Science Foundation, Room C 8000, 2415 Eisenhower Avenue, Alexandria, Virginia 22314; Phone 703-292-8500.

Minutes: May be obtained from the contact person listed above.

Purpose of Meeting: To provide advice, recommendations, and oversight on support for geoscience research and education including atmospheric, geo-space, earth, ocean and polar sciences.

Agenda

Thursday, May 7, 2020

• Review of Charter for an AC GEO Subcommittee on the Division of Earth Sciences Geophysical Facility Portfolio Review

Dated: April 2, 2020.
Crystal Robinson,
Committee Management Officer.

[FR Doc. 2020-07317 Filed 4-7-20; 8:45 am]

BILLING CODE 7555-01-P